DEPARTMENT OF COMMERCE

International Trade Administration

Exporters' Textile Advisory Committee; Notice of Open Meeting

A meeting of the Exporters’ Textile Advisory Committee will be held on September 24, 2008 from 12:00 p.m. - 4:00 p.m.at Stonefield Josephson, 2049 Century Park E, Suite 400, Los Angeles, CA 90067.

The Committee provides advice and guidance to Department officials on the identification and surmounting of barriers to the expansion of textile exports, and on methods of encouraging textile firms to participate in export expansion.

The Committee functions solely as an advisory body in accordance with the provisions of the Federal Advisory Committee Act.

The meeting will be open to the public with a limited number of seats available. For further information contact Kim Bang-Nguyen at (202) 482-4805. Minutes of all ETAC meetings are posted at otexa.ita.doc.gov.

Dated: August 12, 2008.

R. Matthew Priest,
Chairman, Committee for Implementation of Textile Agreements.

[FR Doc. E8-19091 Filed 8-15-08; 8:45 am]

BILLING CODE 3510-DS-S